DEPARTMENT OF ENERGY

Federal Energy Regulatory Commission

[Docket No. CP01-48-000]

Columbia Gas Transmission Corporation; Notice of Request Under Blanket Authorization

December 18, 2000.

Take notice that on December 7, 2000, Columbia Gas Transmission Corporation (Columbia), 12801 Fair Lakes Parkway, Fairfax, Virginia 22030-0146, filed a request with the Commission in Docket No. CP01-48-000, pursuant to Section 157.205 and 157.208 of the Commission's Regulations under the Natural Gas Act (NGA) for authorization to increase the maximum allowable operating pressure (MAOP) of a portion of its existing transmission pipeline designated as PM-3 located in Letcher County, Kentucky, authorized in blanket certificate issued in Docket No. CP83-76-000, all as more fully set forth in the request on file with the Commission and open to public inspection. This filing may be viewed on the web at http://www.ferc.fed.us/online/rims.htm (call 202-208-2222 for assistance).

Columbia proposes to increase the current MAOP of a potion of its Line PM-3 from 180 psig to a MAOP of 250 psig and to operate that portion of the pipeline at the higher pressure. The portion of the pipeline to be uprated consists of 12.7 miles beginning at a point near Measuring Station No. 16641 and ending at a point near Runners Branch. Columbia states the uprate is requested in order for Columbia to maximize operating efficiency of its facilities and to minimize the interruption of receipt of gas from local producers.

Any questions regarding the application may be directed to:

Victoria J. Hamilton, Certificates, Columbia Gas Transmission Corporation, 1700 MacCorkle Avenue, SE., Post Office Box 1273, Charleston, WV 25325-1273, (304) 357-2297, Telecopier: (304) 357-2926

Fredric J. George, Attorney, Columbia Gas Transmission Corporation, 1700 MacCorkle Avenue, SE., Post Office Box 1273, Charleston, WV 25325-1273 (304) 357-2359, Telecopier: (304) 357-3206

Sharon J. Royka, Regulatory Affairs Manager, Columbia Gas Transmission Corporation, 10 G Street, NE., Suite 580, Washington, DC 20002, (202) 216-9766, Telecopier: (202) 216-9785.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA. Comments and protests may be filed electronically via the internet in lieu of paper. See, 18 CFR 385.2001(a)(1)(iii) and the instructions on the Commission's web site at http://www.ferc.fed.us/efi/doorbell.htm.

David P. Boergers,
Secretary.

[FR Doc. 00-32688 Filed 12-21-00; 8:45 am]

BILLING CODE 6717-01-M